DEPARTMENT OF TRANSPORTATION

Federal Aviation Administration

Proposed Establishment of an Aeronautical Research Center

AGENCY: Federal Aviation Administration (FAA), Department of Transportation (DOT).

ACTION: Notice of meeting.

SUMMARY: The FAA is seeking expressions of interest from law schools, universities, aerospace associations, and other interested parties in establishing an aeronautical research center. The center would be an educational and research facility that would provide the public access to the FAA's collection of papers and publications documenting the history of aerospace in the United States. The center would also maintain a collection of technical and legal aerospace resources and would serve as the FAA's main library facility.

DATES: Request to attend meeting is due by July 27, 2004.

Meeting will be held on July 29, 2004, Federal Aviation Administration, 800 Independence Avenue, SW., Washington, DC 20591, in Room 900 East at 2 p.m. People planning to attend should email patricia.abdullah@faa.gov. Please include your name, institution, address, telephone number, and e-mail address.

ADDRESSES: Please mail requests for Information/Sources Sought Notice to: Patricia Abdullah, TITLE, AGC-500, Room 919, Federal Aviation Administration, 800 Independence Avenue, Washington, DC 20591; or e-mail requests to patricia.abdullah@faa.gov. Please include the following Solicitation Number on all requests: Reference Number: 3718.

FOR FURTHER INFORMATION CONTACT: Patricia Abdullah, Federal Aviation, Federal Aviation Administration, 800 Independence Avenue, Room 919, AGC-500, Washington, DC 20591, Telephone: 202-267-7090. E-mail: patricia.abdullah@faa.gov.

Conference for Interested Parties

The FAA will host a conference for interested parties to respond to questions and identify other services and contributions that could benefit the participating parties. The FAA is seeking expressions of interest from law schools, universities, aerospace associations, and other interested parties in establishing an aeronautical research center. The center would be an educational and research facility that would provide the public access to the FAA's collection of papers and publications documenting the history of aerospace in the United States. The center would also maintain a collection of technical and legal aerospace resources and would serve as the FAA's main library facility.

To establish the center, the FAA would contribute: (1) Access to its historical collection as well as its current technical and legal collection; (2) space for the collection; (3) office equipment; and (4) experienced aviation librarians. Other FAA contributions such as internship opportunities for students could be developed depending on the needs of the participating party. Contributions from the participating party would include: (1) The purchase of on-line and paper subscriptions, maintenance and binding of legislative and historical documents, and other miscellaneous expenses to maintain the collection; (2) maintenance of office equipment, supplies, and library software packages; and (3) space design and architectural costs for the center.

Issued in Washington, DC, on July 2, 2004.
Patricia A. Abdullah,
Acting Deputy Assistant Chief Counsel for Procurement.

[FR Doc. 04-15556 Filed 7-12-04; 8:45 am]

BILLING CODE 4910-13-M